DEPARTMENT OF THE INTERIOR

Bureau of Land Management

[ID-077-1220-MA]

Notice of Temporary Restriction of the Use of Public Lands in the Area Known as Castle Rocks State Park and Castle Rocks Inter-Agency Recreation Area Near Almo, ID

AGENCY: Bureau of Land Management, Interior.

ACTION: Notice of temporary restriction.

SUMMARY: The Bureau of Land Management announces temporary restriction of use of certain public lands in Cassia County. This closure will prohibit bolting and placement of fixed anchors to rocks, and overnight camping. The BLM intends to take this action to allow time for analysis of a fixed anchor management plan.

DATES: This closure will take effect on June 1, 2004 and shall remain in effect until June 1, 2005.

The Legal Land Descriptions for the Closure are as Follows: The public lands affected by this closure are all lands administered by the BLM within Section 08 of Township 15 South, Range 24 East, Boise Meridian. This area is known as Castle Rocks State Park and Castle Rocks Inter-Agency Recreation Area. The area covers approximately 320 acres of BLM land. A closure notice including time periods will be posted near the entry point at the Castle Rocks Ranch House.

Exceptions To this Order are Granted To the Following: No exceptions.

Effective Date: This closure is effective June 1, 2004 and shall remain effective until June 1, 2005.

FOR FURTHER INFORMATION, CONTACT: Dennis Thompson, Burley Field Office, 200 South 15 East, Burley, ID. 83318. Telephone (208) 677-6641. A Map of the closure area is available from the Burley BLM Office.

SUPPLEMENTARY INFORMATION: The authority for this closure is found under 43 CFR 8364.1. Any person who violates this closure may be subject to the penalties provided in Sec. 8360.0-7 of this title. Any person who violates this closure may be tried before a United States Magistrate and fined no more than $1,000 or imprisoned for no more than 12 months, or both. Such violations may also be subject to the enhanced fines provided for by 18 U.S.C. 3571.

Dated: April 5, 2004.
Wendy Reynolds,
Burley Field Manager.

[FR Doc. 04-11729 Filed 5-24-04; 8:45 am]

BILLING CODE 4310-66-P